COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products and a service to the Procurement List that will be furnished by nonprofit agencies employing persons who are blind or have other severe disabilities, and deletes products and a service previously furnished by such agencies.

DATES: Comments must be Received on or Before: 8/8/2011.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List.

Comments on this certification are invited. Commenters should identify the statement(s) underlying the certification on which they are providing additional information.

End of Certification

The following products and service are proposed for addition to the Procurement List for production by the nonprofit agencies listed:

Products

NSN: M.R. 1001—Towels, Dish, Kitchen Gourmet, Black, 2pc.

NSN: M.R. 1002—Towels, Dish, Kitchen Gourmet, Red, 2pc.

NSN: M.R. 1003—Towels, Dish, Kitchen Gourmet, Green, 2pc.

NSN: M.R. 1005—Cloth, Dish, Kitchen Gourmet, Black, 2pc.

NSN: M.R. 1006—Cloth, Dish, Kitchen Gourmet, Red, 2pc.

NSN: M.R. 1007—Cloth, Dish, Kitchen Gourmet, Green, 2pc.

NSN: M.R. 1021—Holder, Pot, Deluxe, Black.

NSN: M.R. 1022—Holder, Pot, Deluxe, Red.

NSN: M.R. 1023—Holder, Pot, Deluxe, Green.

NPA: New York City Industries for the Blind, Inc., Brooklyn, NY.

Contracting Activity: Military Resale-Defense Commissary Agency, Fort Lee, VA.

Coverage: C-List for the requirements of military commissaries and exchanges as aggregated by the Defense Commissary Agency.

Service

Service Type/Location: Janitorial Service, Naval Operations Support Center (NOSC), Bldgs. 245 and 247, 5609 Randall Ave., Cheyenne, WY.

NPA: Skils'kin, Spokane, WA.

Contracting Activity: Dept. of the Navy, NAVFAC Northwest, Silverdale, WA.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products and service to the Government.

3. There are no known regulatory alternatives which would accomplish the objectives of the Javits-Wagner-O'Day Act (41 U.S.C. 46-48c) in connection with the products and service proposed for deletion from the Procurement List.

End of Certification

The following products and service are proposed for deletion from the Procurement List:

Products

NSN: 7530-00-281-4844—Envelope, Wallet.

NPA: L.C. Industries for the Blind, Inc., Durham, NC.

Contracting Activity: General Services Administration, New York, NY.

NSN: 7290-00-130-3271—Cover, Ironing Board.

NPA: Lions Services, Inc., Charlotte, NC.

Contracting Activity: General Services Administration, Fort Worth, TX.

Service

Service Type/Location: Janitorial/Custodial, Veterans Affairs Medical Center, 1540 Spring Valley Drive, Huntington, WV.

NPA: Goodwill Industries of KYOWVA Area, Inc., Huntington, WV.

Contracting Activity: Department of Veterans Affairs, NAC, Hines, IL.

Barry S. Lineback,
Director, Business Operations.

[FR Doc. 2011-17146 Filed 7-7-11; 8:45 am]

BILLING CODE 6353-01-P